DEPARTMENT OF COMMERCE

International Trade Administration

[A-489-852]

Dioctyl Terephthalate From the Republic of Türkiye: Final Affirmative Determination of Sales at Less Than Fair Value

AGENCY: Enforcement and Compliance, International Trade Administration, Department of Commerce.

SUMMARY: The U.S. Department of Commerce (Commerce) determines that dioctyl terephthalate (DOTP) from the Republic of Türkiye (Türkiye) is being, or is likely to be, sold in the United States at less than fair value (LTFV). The period of investigation is January 1, 2023, through December 31, 2023.

DATES: Applicable March 28, 2025.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On November 5, 2024, Commerce published in the Federal Register its preliminary affirmative determination in the LTFV investigation of DOTP from Türkiye in which we also postponed the final determination until March 20, 2025.¹ We invited interested parties to comment on the Preliminary Determination. No interested party submitted comments. Accordingly, the final determination remains unchanged from the Preliminary Determination and no decision memorandum accompanies this notice. The Preliminary Determination is hereby adopted in this final determination. Commerce conducted this LTFV investigation in accordance with section 735 of the Tariff Act of 1930, as amended (the Act).

¹ See Dioctyl Terephthalate from the Republic of Türkiye: Preliminary Affirmative Determination of Sales at Less Than Fair Value, Postponement of Final Determination, and Extension of Provisional Measures, 89 FR 87855 (November 5, 2024) (Preliminary Determination), and accompanying Preliminary Decision Memorandum (PDM).

Scope of the Investigation

The product covered by this investigation is DOTP from Türkiye. For a complete description of the scope of this investigation, see the appendix to this notice.

Use of Adverse Facts Available (AFA)

As discussed in the Preliminary Determination, we assigned By Petrokimya Sanayi Ve Ticaret A.S. (Petrokimya), an estimated weighted-average dumping margin based on AFA, pursuant to sections 776(a) and (b) of Act.² There is no new information on the record that would cause us to revisit our decision in the Preliminary Determination. Accordingly, for this final determination, we continue to find that the application of AFA, pursuant to sections 776(a) and (b) of the Act, is warranted and, as AFA, continue to select the highest rate alleged in the Petition as the rate applicable to Petrokimya.³

² See Preliminary Determination, 89 FR at 87856, and PDM at 4-7.

³ See Petitioner's Letter, “Response to Request for Clarification,” dated April 8, 2024 (Petition); see also Preliminary Determination PDM at 7-8.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

As discussed in the Preliminary Determination, we assigned the highest dumping margin alleged in the Petition (i.e., 80.71 percent) as the dumping margin for the sole mandatory respondent, Petrokimya, and the simple average of the margins alleged in the Petition as the all-others rate applicable to all exporters and/or producers not individually examined.⁴ As noted above, we received no comments on our Preliminary Determination and, therefore, we continue to assign a dumping margin of 61.61 percent as the all-others rate for this final determination.

⁴ See Preliminary Determination, and accompanying PDM at 10.

Final Determination

Commerce determines that the following estimated weighted-average dumping margins exist:

Exporter/producer | Weighted- average dumping margin (percent)
By Petrokimya Sanayi Ve Ticaret A.S | * 80.71
All Others | 61.61
* Rate based on facts available with adverse inferences.

Disclosure

Normally, Commerce discloses to interested parties the calculations performed in connection with a final determination within five days of any public announcement or, if there is no public announcement, within five days of the date of publication of the notice of preliminary determination in the Federal Register, in accordance with 19 CFR 351.224(b). However, because Commerce applied AFA to the individually examined company, Petrokimya, in this investigation, in accordance with section 776 of the Act, and the applied AFA rate is based solely on the Petition, there are no calculations to disclose.

Continuation of Suspension of Liquidation

In accordance with section 735(c)(1)(B) of the Act, Commerce will instruct U.S. Customs and Border Protection (CBP) to continue to suspend liquidation of all appropriate entries of DOTP from Türkiye, as described in the appendix of this notice, which are entered, or withdrawn from warehouse, for consumption on or after November 5, 2024, the date of publication of the affirmative Preliminary Determination in the Federal Register.

Pursuant to section 735(c)(1)(B)(ii) of the Act and 19 CFR 351.210(d), Commerce will instruct CBP to require a cash deposit equal to the estimated weighted-average dumping margin or the estimated all-others rate as follows: (1) the cash deposit rate for the respondent listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin. These suspension-of-liquidation instructions will remain in effect until further notice.

U.S. International Trade Commission (ITC) Notification

In accordance with section 735(d) of the Act, we will notify the ITC of this final affirmative determination of sales at LTFV. Because the final determination in this proceeding is affirmative, in accordance with section 735(b)(2) of the Act, the ITC will make its final determination as to whether the domestic industry in the United States is materially injured, or threatened with material injury, by reason of imports of DOTP from Türkiye no later than 45 days after this final determination. If the ITC determines that material injury, or threat of material injury, does not exist, the proceeding will be terminated, and all cash deposits will be refunded. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order (APO)

This notice will serve as the final reminder to parties subject to an APO of their responsibility concerning the destruction of proprietary information disclosed under APO in accordance with 19 CFR 351.305(a)(3). Timely written notification of the return or destruction of APO materials or conversion to judicial protective order is hereby requested. Failure to comply with the regulations and the terms of an APO is a violation which is subject to sanction.

Notification to Interested Parties

This determination and this notice are issued and published pursuant to sections 735(d) and 777(i)(1) of the Act, and 19 CFR 351.210(c).

Dated: March 20, 2025.
Christopher Abbott,
Deputy Assistant Secretary for Policy and Negotiations, performing the non-exclusive functions and duties of the Assistant Secretary for Enforcement and Compliance.

Appendix—Scope of the Investigation

The merchandise covered by this investigation is dioctyl terephthalate (DOTP), regardless of form. DOTP that has been blended with other products is included within this scope when such blends include constituent parts that have not been chemically reacted with each other to produce a different product. For such blends, only the DOTP component of the mixture is covered by the scope of the investigations.

DOTP that is otherwise subject to this investigation is not excluded when commingled with DOTP from sources not subject to this investigation. Commingled refers to the mixing of subject and non-subject DOTP. Only the subject component of such commingled products is covered by the scope of this investigation.

DOTP has the general chemical formulation of C6H4 (C8H17COO)2 and a chemical name of “bis (2-ethylhexyl) terephthalate” and has a Chemical Abstract Service (CAS) registry number of 6422-86-2. Regardless of the label, all DOTP is covered by this investigation.

Subject merchandise is currently classified under subheading 2917.39.2000 of the Harmonized Tariff Schedule of the United States (HTSUS). Subject merchandise may also enter under subheadings 2917.39.7000 or 3812.20.1000 of the HTSUS. While the CAS registry number and HTSUS classifications are provided for convenience and customs purposes, the written description of the scope of this investigation is dispositive.

[FR Doc. 2025-05318 Filed 3-27-25; 8:45 am]

BILLING CODE 3510-DS-P